SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: December 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR 806, Subpart E

1. Pennsylvania Department of Corrections—State Correctional Institute at Rockview, GF Certificate No.201812001, Benner Township, Centre County, Pa.; Benner Spring, McBride Gap Reservoir, and consumptive use; Issue Date: December 5, 2018.

2. Town of Corning Water Department—East Corning Water District, GF Certificate No.201812002, Town of Corning, Steuben County, N.Y.; Corning Manor Well 1 and Gibson Well; Issue Date: December 5, 2018.

3. Corning Country Club, GF Certificate No.201812003, Town of Corning, Steuben County, N.Y.; Well 1, Well 2, and consumptive use; Issue Date: December 5, 2018.

4. Milton Hershey School, GF Certificate No. 201812004, Derry Township, Dauphin County, Pa.; Well 2; Issue Date: December 6, 2018.

5. Messiah College, GF Certificate No. 201812005, Upper Allen Township, Cumberland County, and Monaghan Township, York County, Pa.; Yellow Breeches Creek; Issue Date: December 6, 2018.

6. Motts LLP, GF Certificate No. 201812006, Menallen Township, Adams County, Pa., Well 4 and Well 6; Issue Date: December 6, 2018.

7. Elmira Country Club, GF Certificate No. 201812007, Town of Elmira, Chemung County, N.Y., consumptive use; Issue Date: December 6, 2018.

8. Village of Sherburne, GF Certificate No. 201812008, Village of Sherburne, Chenango County, N.Y., Well 2; Issue Date: December 6, 2018.

9. Fox Hill Country Club, GF Certificate No. 201812009, Exeter Borough, Luzerne County, Pa., Halfway House Well; Issue Date: December 7, 2018.

10. Norwich Pharmaceuticals, Inc.—Norwich Facility, GF Certificate No. 201812010, Town of North Norwich, Chenango County, N.Y., Well 1 and Well 2; Issue Date: December 7, 2018.

Authority: Public Law 91-575, 84 Stat. 1509 et seq., 18 CFR parts 806, 807, and 808.

Dated: February 1, 2019.
Jason E. Oyler,
Acting Secretary to the Commission.

[FR Doc. 2019-01247 Filed 2-5-19; 8:45 am]

BILLING CODE 7040-01-P